DEPARTMENT OF THE INTERIOR

Minerals Management Service

Environmental Documents Prepared for Proposed Oil and Gas Operations on the Gulf of Mexico Outer Continental Shelf (OCS)

AGENCY: Minerals Management Service, Interior.

ACTION: Notice of the availability of environmental documents, prepared for OCS mineral proposals on the Gulf of Mexico OCS.

SUMMARY: Minerals Management Service (MMS), in accordance with Federal Regulations that implement the National Environmental Policy Act (NEPA), announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares an SEA and FONSI for proposals that relate to exploration for and the development/production of oil and gas resources on the Gulf of Mexico OCS. The EA examines the potential environmental effects of activities described in the proposals and presents MMS conclusions regarding the significance of those effects. Environmental Assessments are used as a basis for determining whether or not approval of the proposals constitutes major Federal actions that significantly affect the quality of the human environment in the sense of NEPA Section 102(2)(C). A FONSI is prepared in those instances where MMS finds that approval will not result in significant effects on the quality of the human environment. The FONSI briefly presents the basis for that finding and includes a summary or copy of the EA.

This notice constitutes the public notice of availability of environmental documents required under the NEPA Regulations.

This listing includes all proposals for which the Gulf of Mexico OCS Region prepared a FONSI since publication of the preceding notice on December 18, 2001.

Activity/operator | Location | Date
Shell Offshore, Okeanos Gas Gathering Company, LLC., Initial Development Operations Coordination Document and Pipeline Right-of-Way Activity, SEA Nos. N-7166 and P-13591 | Mississippi Canyon Area, Block 520, OCS-G 09821 and Block 474, Unleased, to Main Pass Area, Block 260, OCS-G 07828, NAKIKA Right-of-Way, OCS-G 23093, 38-68 miles east and southeast of Plaquemines Parish, Louisiana, and 61-120 miles south of Mobile County, Alabama | 01/24/02
Seneca Resources Corporation, Structure Removal Activity, SEA No. ES/SR 01-101A | Vermilion Area, Block 296, Lease OCS-G 09511, 79 miles south of Vermilion Parish, Louisiana, and 114 miles southwest of Morgan City, Louisiana | 12/19/01
The Houston Exploration Company, Structure Removal Activity, SEA No. ES/SR 01-104 | Mustang Island Area, Block 807, Lease OCS-G 14105, 31 miles southeast of Nueces County, Texas, and 62 miles south-southwest of Port O'Connor, Texas | 12/19/01
Energy Resource Technology, Inc., Structure Removal Activity, SEA No. ES/SR 02-001 | East Cameron Area, Block 231, Lease OCS-G 02038, 79 miles south-southeast of Grand Chenier, Louisiana, and 70 miles south of Cameron Parish, Louisiana | 01/29/02
BP America, Inc., Structure Removal Activity, SEA No. ES/SR 02-002 | Main Pass (South and East Addition) Area, Block 199, Lease OCS-G 12093, 37 miles east-southeast of Chandeleur Islands, and 65 miles east-northeast of Venice, Louisiana | 01/29/02
Ocean Energy Inc., Structure Removal Activity, SEA Nos. ES/SR 02-003 and 02-004 | Eugene Island Area, Block 119, Platform P, Lease OCS-G-00049, and Vermilion (South Addition) Area, Block 288, Platform A, Lease OCS-G 09509, Platform P lies 52 miles south-southwest of Morgan City, Louisiana, and 23 miles southwest of Terrebonne Parish, Louisiana; and Platform A lies 95 miles south-southwest of Intracoastal City, Louisiana, and 76 miles south-southwest of Iberia Parish, Louisiana | 01/30/02
Maritech Resources, Inc., Structure Removal Activity, SEA No. ES/SR 02-005 | Eugene Island Area, Block 191, Lease OCS-G 03995, 37 miles east-southeast of Terrebonne Parish, Louisiana, and 87 miles southeast of Intracoastal City, Louisiana | 02/06/02
El Paso Production, Structure Removal Activity, SEA No. ES/SR 02-006 | Vermilion Area, Block 47, Lease OCS-G 15163, 10 miles south of Vermilion Parish, Louisiana, and 231 miles west of Fourchon, Louisiana | 02/05/02
Taylor Energy Company, Structure Removal Activity, SEA No. ES/SR 02-007 | Matagorda Island Area, Block A-7, Lease OCS-G 03467, 34 miles south-southeast of Calhoun County, Texas, and 55 miles west of Harbor Island, Texas | 01/31/02
BP America, Inc., Structure Removal Activity, SEA No. ES/SR 02-008 | South Timbalier Area, Block 182, Lease OCS-G 16431, 38 miles east-southeast of Lafourche Parish, Louisiana, and 51 miles west southwest of Grande Isle, Louisiana | 02/06/02
El Paso Production Company, Structure Removal Activity, SEA No. ES/SR 02-009 | Mobile Area, Block 960, Lease OCS-G 05760, 12 miles south of Baldwin County, Alabama, and 34 miles south-southeast of Theodore, Alabama | 02/26/02

Persons interested in reviewing environmental documents for the proposals listed above or obtaining information about EAs and FONSIs prepared for activities on the Gulf of Mexico OCS are encouraged to contact MMS at the address or telephone listed in the FOR FURTHER INFORMATION CONTACT section.

Dated: March 26, 2002.
Chris C. Oynes,
Regional Director, Gulf of Mexico OCS Region.

[FR Doc. 02-10988 Filed 5-2-02; 8:45 am]

BILLING CODE 4310-MR-U